Proclamation 9806 of October 12, 2018

National School Lunch Week, 2018

By the President of the United States of America

A Proclamation

School meals help ensure that our children receive the nourishment they need to grow, develop, and learn. During National School Lunch Week, we acknowledge the benefits of school lunch programs, which provide millions of children the opportunity to enjoy nutritious meals, providing them with the fuel they need to achieve their full physical and mental potential.

The National School Lunch Program provides nearly 4.9 billion low-cost or free meals to approximately 30 million students each year. These meals are a dependable and consistent source of nutrition for many children in schools and childcare centers throughout our country.

My Administration understands that we have a responsibility to children and taxpayers alike to ensure that school meals are nutritious and enjoyable. The best way to do that is to return control back to the people on the ground who make these programs work. That is why we have lowered regulatory hurdles and restored flexibility to schools and communities with respect to the menus in their cafeterias. School nutrition specialists and food service professionals work tirelessly each day to provide students with the nourishment they need to succeed in the classroom and beyond. We are committed to supporting them, listening to their feedback, and equipping them with the tools and flexibility they need to serve our children well.

This week, we recognize the hard work of all the food service professionals, school administrators, community members, and parents across our Nation who help plan, prepare, and serve the meals that sustain millions of children. To emphasize the importance of the National School Lunch Program to our youth's nutrition, the Congress, by joint resolution of October 9, 1962 (Public Law 87-780), has designated the week beginning on the second Sunday in October each year as “National School Lunch Week,” and has requested the President to issue a proclamation in observance of this week.

NOW, THEREFORE, I, DONALD J. TRUMP, President of the United States of America, by virtue of the authority vested in me by the Constitution and the laws of the United States, do hereby proclaim October 14 through October 20, 2018, as National School Lunch Week. I call upon all Americans to join the countless individuals who administer the National School Lunch Program in activities that support and promote awareness of the health and well-being of our Nation's children.

IN WITNESS WHEREOF, I have hereunto set my hand this twelfth day of October, in the year of our Lord two thousand eighteen, and of the Independence of the United States of America the two hundred and forty-third.

[FR Doc. 2018-22937

Filed 10-17-18; 11:15 am]

Billing code 3295-F9-P